DEPARTMENT OF STATE

[Public Notice 4800]

Bureau of Educational and Cultural Affairs (ECA) Request for Grant Proposals: South Asia Professional Exchanges and Training Program for Afghanistan, Bangladesh, India, Pakistan, and Sri Lanka

Announcement Type: New Grant.

Funding Opportunity Number: ECA/PE/C/NEAAF-05-02.

Catalog of Federal Domestic Assistance Number: 00.000.

Application Deadline: October 7, 2004.

Summary: The South Asia/Near East/Africa Division of the Office of Citizen Exchanges of the Bureau of Educational and Cultural Affairs (ECA), in cooperation with the South Asia Bureau of the U.S. Department of State, announces an open competition for grants to support exchanges and relationship building between U.S. non-profit organizations and civil society groups in the following South Asian countries: Afghanistan, Bangladesh, India, Pakistan, and Sri Lanka. ECA is most interested in projects which have a regional, multi-country, or cross-border focus, but single-country proposals will also be considered. Proposals should center on groups that work with young people, and should design innovative, short-term, high impact projects that promote mutual understanding between people in the U.S. and people in South Asia and the advancement of one or more of the following themes: excellence in education, democracy enhancement, economic skills promotion, and conflict management.

In this competition, innovative design for short-term, high-impact projects to pursue these themes effectively, and to do so with South Asian partner organizations, will be important to proposal competitiveness. Up to five grants may be awarded, and no award will exceed $200,000. Public and private non-profit organizations meeting the provisions described in Internal Revenue Code section 26 U.S.C. 501(c)(3) may submit proposals for the South Asia Professional Exchanges and Training Program for Afghanistan, Bangladesh, India, Pakistan and Sri Lanka.

I. Funding Opportunity Description

Authority: Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation. Funding for this competition is being provided from FY-2004/FY-2005 Economic Support Funds (ESF) transferred to the Bureau of Educational and Cultural Affairs for obligation.

Purpose: ECA seeks proposals that will address one or more of four pillars in the Department's strategy for working with South Asia: education, democracy, economic development, and conflict management. Proposals will be judged more competitive if they present convincingly innovative, short-term, high-impact project designs, as the Bureau seeks new, expeditious and potentially more effective ways to engage relevant audiences for these themes in the focal countries. Proposals should provide for travel between the U.S. and South Asia and for activities which will promote collaboration in planning and implementing projects of common interest. Proposals should target groups focused on youth, including teachers, parents, religious and community leaders and/or other mentors. They should also reflect an understanding of the related work of various international agencies (e.g., U.S. Agency for International Development, World Bank, development foundations) so that the new projects complement, but do not duplicate, other programs. Proposals for countries and for themes other than those listed here will not be eligible for consideration and will be declared technically ineligible. No guarantee is made or implied that grants will be awarded in all categories.

Themes:

• Innovation in education: Projects might include the development of curricula, classroom pedagogy, parent/teacher/student associations, or the training of teachers and administrators to fit the needs of target schools and communities. Target schools may be public and/or publicly-sanctioned religious schools. Of particular interest would be schools or activities that focus on female students, as would projects that promote student problem solving and critical thinking skills with an interactive pedagogy. Special attention might be given to preparing students for employment or for citizenship roles. Literacy projects for girls, their mothers and/or unemployed youth plus projects that seek to develop and disseminate student-focused material in local languages on citizenship and civic issues would also be of interest.

• Democracy enhancement: Projects should promote youth awareness of and involvement in civic and democratic processes, including respect for intellectual freedom, tolerance of diversity, accountability of government, human rights, and inclusiveness of women and minorities. Small grants to community-based NGOs to promote grassroots democracy, civic education projects, and/or community health and development projects with a civic education component will be considered.

• Economic skills promotion: Projects should encourage and help youth develop skills for employment, entrepreneurship, intelligent economic decisionmaking, and business management. Integration of women and unemployed youth into local economies and regional economic cooperation is also of interest.

• Conflict prevention, mitigation, reconciliation: Projects should bring together young people from divided communities in countries and/or regions experiencing civil and communal conflict. Small-scale projects involving mock legislatures, volunteerism, student camps, mediation training, civil society efforts or other projects that promote dialogue among groups in conflict and coalitions among divided communities are of interest.

Applicants should identify local organizations and individuals in the South Asian countries with which/whom they are proposing to collaborate and provide information regarding previous cooperative programming and/or contacts. Information about the counterpart organizations' activities and accomplishments should be included in the section on institutional capacity. Proposals must contain letters of commitment or support from the foreign country partner organizations, and these letters should be tailored to the project being proposed.

Strong proposals usually have the following characteristics:

• A demonstrable track record by the applicant of working in the proposed issue area and countries;

• Experienced staff with language facility, where needed, and a commitment to monitor projects locally to ensure implementation;

• A clear, convincing implementation plan showing how substantive results will be achieved as a result of the activities funded by the grant; and

• A plan that outlines activities that will take place after the ECA grant concludes (follow-on).

The proposal narrative should clearly state the applicant's commitment to consult closely with the Public Affairs Section, and when required with other officers, at the U.S. Embassy in the focal countries. Applicants are encouraged to consult with U.S. Public Affairs Officers in those countries before submitting proposals. Proposal narratives should also state that all material developed for the project will acknowledge ECA Bureau funding for the program as well as a commitment to invite representatives of the Embassy and/or Consulate to participate in program sessions or site visits. Note that this will be a formal requirement in all final grant awards.

Suggested Program Designs

ECA-supported exchanges may include internships; study tours; short-term, non-technical experiential learning; and extended and intensive workshops and seminars taking place in the United States or overseas. Examples of possible program activities include:

1. A U.S.-based program that includes orientation to program purposes and to U.S. society, study tour/site visits, professional internships/placements, interaction and dialogue, experiential training, and action plan development.

2. Capacity-building and training-of-trainer (TOT) workshops to help participants identify priorities, create work plans, strengthen professional and volunteer skills, share their experience with committed people within each country, and become active in a practical and valuable way.

3. Site visits and workshops by U.S. facilitators to monitor projects in the region and to provide additional consultation and training as needed.

Activities Ineligible for Support

The Office does not support proposals limited to conferences or seminars (i.e., one-to-fourteen-day programs with plenary sessions, main speakers, panels, and a passive audience). It will support conferences only when they are an integral component of a larger project that is receiving ECA funding from this competition. No funding is available exclusively to send U.S. citizens to conferences or conference-type seminars overseas; nor is funding available for bringing foreign nationals to conferences or to routine professional association meetings in the United States. The Office of Citizen Exchanges does not support academic research or faculty or student fellowships.

Participant Selection: The winning applicants MUST consult closely with officers in the Public Affairs Sections of U.S. Embassies, as well as the ECA Office of Citizen Exchanges, during program implementation. Embassy officers must concur in the selection of all participants nominated for the program.

Security Considerations: Proposals that include work in or with Afghanistan or Pakistan should reflect an awareness of security conditions there and should demonstrate willingness to work closely with the U.S. Embassies in Kabul or Islamabad to schedule grant activities in accordance with mission security guidelines. All travel to Afghanistan or Pakistan by U.S. participants in this program must be cleared in advance with the U.S. Embassies in Kabul or Islamabad and must be performed in accordance with mission requirements. Itineraries, details of local transportation and housing, and names of visitors will be submitted in advance for mission approval.

Once projects are funded, ECA will work with the grantees to solicit more detailed information on the needs and interests of individual participants.

II. Award Information

Type of Award: Grant.

Fiscal Year Funds: FY04-05.

Approximate Total Funding: $800,000.

Approximate Number of Awards: Four to five.

Approximate Average Award: $170,000.

Floor of Award Range: $ 55,000.

Ceiling of Award Range: $200,000.

Anticipated Award Date: Pending availability of funds, December 21, 2004.

Anticipated Project Completion Date: While ECA is most interested in projects that can be completed expeditiously, projects extending to December 31, 2006, will be considered.

III. Eligibility Information

III.1. Eligible applicants: Applications may be submitted by public and private non-profit organizations meeting the provisions described in Internal Revenue Code section 26 U.S.C. 501(c)(3).

III.2. Cost Sharing or Matching Funds: There is no minimum or maximum percentage required for this competition. However, the Bureau encourages applicants to provide maximum levels of cost sharing and funding in support of its programs, and amount of cost sharing offered will be one criterion in evaluating grant proposals.

When cost sharing is offered, it is understood and agreed that the applicant must provide the amount of cost sharing as stipulated in its proposal and later included in an approved grant agreement. Cost sharing may be in the form of allowable direct or indirect costs. For accountability, grantees must maintain written records to support all costs which are claimed as contributions, as well as costs to be paid by the Federal government. Such records are subject to audit. The basis for determining the value of cash and in-kind contributions must be in accordance with OMB Circular A-110, (Revised), Subpart C.23—Cost Sharing and Matching. In the event the grantee does not provide the minimum amount of cost sharing as stipulated in the approved budget, ECA's contribution will be reduced in like proportion.

III.3. Other Eligibility Requirements:

Grants awarded to eligible organizations with less than four years of experience in conducting international exchange programs will be limited to $60,000.

IV. Application and Submission Information

Note: Please read the complete Federal Register announcement before sending inquiries or submitting proposals. Once the RFGP deadline has passed, Bureau staff may not discuss this competition with applicants until the proposal review process has been completed.

IV.1. Contact Information To Request an Application Package: Please contact the Office of Citizen Exchanges, ECA/PE/C/NEAAF, Room 216, U.S. Department of State, SA-44, 301 4th Street, SW., Washington, DC 20547, Attention: South Asia Professional Exchanges Program, telephone (202) 619-5320, fax number (202) 619-4350, to request a Solicitation Package. Please refer to the Funding Opportunity Number ECA/PE/C/NEAAF-05-02 and program title located at the top of this announcement when making your request.

The Solicitation Package contains the Proposal Submission Instructions (PSI) which include required application forms and standard guidelines for proposal preparation.

IV.2. To Download a Solicitation Package Via Internet: The entire Solicitation Package may be downloaded from the Bureau's Web site at http://exchanges.state.gov/education/rfgps/menu.htm. Please read all information before downloading.

IV.3. Content and Form of Submission: Applicants must follow all instructions in the Solicitation Package. The original and ten copies of the application should be sent per the instructions under IV.3e. “Submission Dates and Times section” below.

IV.3a. Applicants are required to have a Dun and Bradstreet Data Universal Numbering System (DUNS) number to apply for a grant or cooperative agreement from the U.S. Government. This number is a nine-digit identification number which uniquely identifies business entities. Obtaining a DUNS number is easy and there is no charge. To obtain a DUNS number, access http://www.dunandbradstreet.com or call 1-866-705-5711. Please ensure that your DUNS number is included in the appropriate box of the SF-424, “Application for Federal Assistance,” which is part of the formal application package.

IV.3b. All proposals must contain an executive summary, proposal narrative and budget.

Please Refer to the Solicitation Package. It contains the mandatory Proposal Submission Instructions (PSI) document for additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1. Adherence to All Regulations Governing the J Visa: The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving grants under this RFGP will be third parties “cooperating with or assisting the sponsor in the conduct of the sponsor's program.” The actions of grantee program organizations shall be “imputed to the sponsor in evaluating the sponsor's compliance with” 22 CFR part 62. Therefore, the Bureau expects that any organization receiving a grant under this competition will render all assistance necessary to enable the Bureau to fully comply with 22 CFR part 62 et seq.

The Bureau of Educational and Cultural Affairs places great emphasis on the secure and proper administration of Exchange Visitor (J visa) Programs and adherence by grantee program organizations and program participants to all regulations governing the J visa program status. Therefore, proposals should explicitly state in writing that the applicant is prepared to assist the Bureau in meeting all requirements governing the administration of Exchange Visitor Programs as set forth in 22 CFR part 62. If your organization has experience as a designated Exchange Visitor Program Sponsor, the proposal should describe your record of compliance with 22 CFR part 62 et seq., including the oversight of Responsible Officers and Alternate Responsible Officers, screening and selection of program participants, provision of pre-arrival information and orientation to participants, monitoring of participants, proper maintenance and security of forms, recordkeeping, reporting and other requirements.

The Office of Citizen Exchanges of ECA will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 401-9810, FAX: (202) 401-9809.

IV.3d.2. Diversity, Freedom and Democracy Guidelines: Pursuant to the Bureau's authorizing legislation, programs must maintain a non-political character and should be balanced and representative of the diversity of American political, social, and cultural life. “Diversity” should be interpreted in the broadest sense and encompass differences including, but not limited to, ethnicity, race, gender, religion, geographic location, socio-economic status, and disabilities. Applicants are strongly encouraged to adhere to the advancement of this principle both in program administration and in program content. Please refer to the review criteria under the ‘Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation: Proposals must include a plan to monitor and evaluate the project's success, both as the activities unfold and at the end of the program. The Bureau recommends that your proposal include a draft survey questionnaire or other data collection techniques plus a description of a methodology to link outcomes to original project objectives and to project activities. The Bureau expects that the grantee will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and objectives at the outset of a program. Your evaluation plan should include a description of project objectives, your anticipated project outcomes, and how and when you intend to measure these outcomes (performance indicators). The more that objectives are “smart” (specific, measurable, attainable, results-oriented, and placed in a reasonable time frame), the easier it will be to conduct the evaluation. You should also show how your project objectives link to the program goals described in this RFGP.

Your monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and are usually measured as an extent of change. Findings on outputs and outcomes should both be reported, but primary attention should be on outcomes.

We encourage you to assess the following four levels of outcomes, as they relate to the program goals set out in the RFGP (listed here in increasing order of importance):

1. Participant satisfaction with the program and exchange experience.

2. Participant learning, such as increased knowledge, aptitude, skills, and changed understanding and attitude. Learning includes both substantive (subject-specific) knowledge and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of your monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Grantees will be required to provide reports analyzing their evaluation findings to the Bureau in their regular program reports. All data collected, including survey responses and contact information, must be maintained for a minimum of three years and provided to the Bureau upon request.

IV.3e. Please take the following information into consideration when preparing your budget:

IV.3e.1. Applicants must submit a comprehensive budget for the entire program. Awards may not exceed $200,000. There must be a summary budget as well as breakdowns reflecting both administrative and program budgets. Applicants may provide separate sub-budgets for each program component, phase, location, or activity to provide clarification.

IV.3e.2. Allowable costs for the program include the following:

(1) Travel. International and domestic airfare (per the “Fly America Act”), ground transportation, and visas for U.S. participants. (J-1 visas for ECA-supported participants from South Asia to travel to the U.S. are issued at no charge.)

(2) Per Diem. For U.S.-based programming, organizations should use the published Federal per diem rates for individual U.S. cities. Domestic per diem rates may be accessed at: http://policyworks.gov/org/main/mt/homepage/mtt/perdiem/perd03d.html. For activities in South Asia, ECA requests applicants to budget realistic costs that reflect the local economy and never exceed Federal per diem rates. Foreign per diem rates can be accessed at: http://www.state.gov/m/a/als/prdm/html.

(3) Interpreters. For U.S.-based activities, ECA strongly encourages applicants to hire their own locally-based interpreters. However, applicants may ask ECA to assign U.S. Department of State interpreters, which will decrease the amount of the award. Typically, one interpreter is provided for every four visitors that require interpreting. When an applicant proposes to use State Department interpreters, the following expenses should be included in the budget: Published Federal per diem rates (both “lodging” and “M&IE”; “home-program-home” transportation in the amount of $400 per interpreter; reimbursement for taxi fares; and cell phone usage at $10 per week. Salary expenses for State Department interpreters will be covered by the Bureau and should not be part of an applicant's proposed budget. Bureau funds cannot support interpreters who accompany delegations from their home country or travel internationally.

4. Book and Cultural Allowances. Foreign participants are entitled to a one-time cultural allowance of $150 per person, plus a book allowance of $50. Interpreters should be reimbursed up to $150 for expenses when they escort participants to cultural events. U.S. program staff, trainers or participants are not eligible to receive these benefits.

5. Consultants. Consultants may be used to provide specialized expertise or to make presentations. Honoraria rates should not exceed $250 per day. Organizations are encouraged to cost-share rates that would exceed that figure. Subcontracting organizations may also be employed, in which case the written agreement between the prospective grantee and subcontractor should be included in the proposal. Such subcontracts should detail the division of responsibilities and proposed costs, and subcontracts should be itemized in the budget.

6. Room rental should not exceed $250 per day, or any excess should be cost shared.

7. Materials development. Proposals may contain costs to purchase, develop and translate materials for participants. ECA strongly discourages the use of automatic translation software for the preparation of training materials or any information distributed to the group of participants or network of organizations. Costs for high quality translation of materials should be anticipated and included in the budget. Grantee organizations should expect to submit a copy of all program materials to ECA, and ECA support should be acknowledged on all materials developed with its funding.

8. Equipment. Proposals may include limited costs to purchase equipment for South Asia-based programming such as computers and fax machines, but equipment costs should be kept to a minimum. Costs for furniture are not allowed.

9. Working meal. Only one working meal may be provided during the program. Per capita costs may not exceed $8 for a lunch and $20 for a dinner, excluding room rental, and lower costs are preferred. The number of invited guests may not exceed participants by more than a factor of two-to-one. Interpreters must be included as participants.

10. Return travel allowance. A return travel allowance of $70 for each foreign participant may be included in the budget. This allowance may be used for incidental expenses incurred during international travel.

11. Health Insurance. Foreign participants will be covered during their participation in the program by the ECA-sponsored Accident and Sickness Program for Exchanges (ASPE), for which the grantee must enroll them. Details of that policy can be provided by the contact officers identified in this solicitation. The premium is paid by ECA and should not be included in the grant proposal budget. However, applicants are permitted to include costs for travel insurance for U.S. participants in the budget.

12. Wire transfer fees. When necessary, applicants may include costs to transfer funds to partner organizations overseas. Grantees are urged to research applicable taxes that may be imposed on these transfers by host governments.

13. In-country travel costs for visa processing purposes. Given the requirements associated with obtaining J-1 visas for ECA-supported participants, applicants should include costs for participant and/or in-country partner travel to U.S. embassies or consulates for these purposes. E.g., Afghan participants may have to travel to Islamabad more than once to be interviewed and to pick up their visas.

14. Administrative Costs. Costs necessary for the effective administration of the program may include salaries for grantee organization employees, benefits, and other direct and indirect costs per detailed instructions in the Application Package. While there is no rigid ratio of administrative to program costs, proposals in which the administrative costs do not exceed 25% of the total requested ECA grant funds will be rated more highly on cost effectiveness (See Review Criterion #10.). Proposals should show strong administrative cost-sharing contributions from the applicant, the in-country partner and other sources.

Please refer to the Solicitation Package for complete budget guidelines and formatting instructions.

IV.3f. Submission Dates and Times:

Application Deadline Date: October 7, 2004.

Explanation of Deadlines: In light of recent events and heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. ECA will not notify you upon receipt of application. Delivery of proposal packages may not be made via local courier service or in person for this competition. Faxed documents will not be accepted at any time. Only proposals submitted as stated above will be considered. Applications may not be submitted electronically at this time.

Applicants must follow all instructions in the Solicitation Package.

Important Note: When preparing your submission please make sure to include one extra copy of the completed SF-424 Application For Federal Assistance form and place it in an envelope addressed to “ECA/EX/PM”.

The original and ten copies of the application should be sent to: U.S. Department of State, SA-44, Bureau of Educational and Cultural Affairs,Ref.: ECA/PE/C/NEAAF-05-02, Program Management, ECA/EX/PM, Room 534, 301 4th Street, SW., Washington, DC 20547.

Along with the Project Title, all applicants must enter the above Reference Number in Box 11 on the SF-424 contained in the mandatory Proposal Submission Instructions (PSI) of the solicitation document.

IV.3g. Intergovernmental Review of Applications: Executive Order 12372 does not apply to this program.

Applicants must also submit the “Executive Summary” and “Proposal Narrative” sections of the proposal in text (.txt) format on a PC-formatted disk. The Bureau will provide these files electronically to the appropriate Public Affairs Section(s) at the U.S. embassy(ies) for its(their) review.

V. Application Review Information

V.1. Review Process

The Bureau will review all proposals for technical eligibility. Proposals will be deemed ineligible if they do not fully adhere to the guidelines stated herein and in the Solicitation Package. The program office, as well as the Public Diplomacy section overseas, where appropriate, will review all eligible proposals. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for grants resides with the Bureau's Grants Officer.

Review Criteria

Technically eligible applications will be competitively reviewed according to the criteria stated below. These criteria are not rank ordered and all carry equal weight in the proposal evaluation:

1. Quality of the program idea: Proposals should exhibit originality, substance, precision, and relevance to the purposes stated in this Request for Grant Proposals. Note the call for innovative, short-term, high-impact designs.

2. Program planning: Detailed agenda and relevant work plan should demonstrate substantive undertakings and logistical capacity over a progressive time line. Agenda and plan should adhere to the program overview and guidelines described above.

3. Ability to achieve program objectives: Objectives should be clearly stated (see section on monitoring and evaluation above) in terms that allow linkage with program activities.

4. Multiplier effect/impact: Proposed programs should strengthen long-term mutual understanding, including maximum sharing of information and establishment of long-term institutional and individual linkages.

5. Support of Diversity: Proposals should demonstrate substantive support of the Bureau's policy on diversity. Achievable and relevant features should be cited in both program administration (selection of participants, program venue and program evaluation) and program content (orientation and wrap-up sessions, program meetings, resource materials and follow-up activities).

6. Institutional Capacity: Proposed personnel and institutional resources should be adequate and appropriate to achieve the program or project's goals.

7. Institution's Record: Proposals should demonstrate an institutional record of successful exchange programs, including responsible fiscal management and full compliance with all reporting requirements for past Bureau grants as determined by Bureau Grants Staff. The Bureau will consider the past performance of prior recipients and the demonstrated potential of new applicants.

8. Follow-on Activities: Proposals should provide a plan for continued follow-on activity (without Bureau support) ensuring that ECA-supported programs are not isolated events.

9. Project Evaluation: Proposals should include a plan to evaluate the activity's success, both as the activities unfold and at the end of the program. ECA recommends submission of draft survey questionnaires or other data collection techniques plus description of a methodology to use to link outcomes to original project objectives and project activities. ECA also recommends employment of an expert, independent evaluator and final impact evaluation conducted six months after the end of other program activities.

Although some exchange project objectives may be difficult to quantify, ECA urges applicants to identify indicators and observational techniques to associate with all objectives so that program progress and outcome can be objectively reported. Overall, an evaluation plan will be judged more satisfactory the more that it specifies (a) a distinct population with which to work, (b) a manageable set of “smart” objectives on a time line for that population, (c) clear descriptions of performance indicators for each objective, (d) measurement tools for collecting data, (e) a methodology for aggregating observations, and (f) inference strategies for interpreting data.

10. Cost-effectiveness: The overhead and administrative components of the proposal, including salaries and honoraria, should be kept as low as possible. All other items should be necessary and appropriate.

11. Cost-sharing: Proposals should maximize cost-sharing through other private sector support as well as institutional direct funding and in-kind contributions.

12. Value to U.S.-Partner Country Relations: Proposed projects should receive positive assessments by the U.S. Department of State's geographic area desk and overseas officers of program need, potential impact, and significance in the partner country(ies).

VI. Award Administration Information

VI.1. Award Notices

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information:

http://www.whitehouse.gov/omb/grants;

http://exchanges.state.gov/education/grantsdiv/terms.htm#articleI.

VI.3. Reporting Requirements

You must provide ECA with a hard copy original plus one copy of the following reports:

a. A final program that includes the overall program evaluation and a final financial report no more than 90 days after the expiration of the award;

b. Quarterly financial reports; and

c. Program reports after each major phase of activity, e.g., after each international travel phase.

Grantees will be required to provide reports analyzing their evaluation findings to the Bureau in their regular program reports. Please refer to Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VI.4. Program Data Requirements

Organizations awarded grants will be required to maintain specific data on program participants and activities in an electronically accessible database format that can be shared with the Bureau as requested. As a minimum, the data must include the following:

(a) Name, address, contact information and biographic sketch of all persons who travel internationally on funds provided by the grant.

(b) Itineraries of international and domestic travel, providing dates of travel and cities in which any exchange experiences take place. Final schedules for in-country and U.S. activities must be received by the ECA Program Officer at least three work days prior to the official opening of the activity.

VII. Agency Contacts

For questions about this announcement, contact: Katherine Van de Vate ((202) 619-5320, vandevatek@state.gov) or Thomas Johnston ((202) 619-5325, JohnstonTJ@state.gov), room 216, Office of Citizen Exchanges, ECA/PE/C/NEAAF, U.S. Department of State, SA-44, 301 Fourth Street, SW., Washington, DC 20547. All correspondence with the Bureau concerning this RFGP should reference the above title and number ECA/PE/C/NEAAF-05-02.

Please read the complete Federal Register announcement before sending inquiries or submitting proposals. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Notification: Final awards cannot be made until funds have been appropriated by Congress, allocated and committed through internal ECA Bureau procedures.

Dated: August 6, 2004.
C. Miller Crouch,
Principal Deputy Assistant Secretary, Bureau of Educational and Cultural Affairs, Department of State.

[FR Doc. 04-18456 Filed 8-11-04; 8:45 am]

BILLING CODE 4710-05-P